SECURITIES AND EXCHANGE COMMISSION

[File No. 500-1]

Order of Suspension of Trading; In the Matter of Gold Hills Mining, Ltd., Massive Dynamics, Inc., Medisafe 1 Technologies Corp., and MDU Communications International, Inc.

April 21, 2016.

It appears to the Securities and Exchange Commission that there is a lack of current and accurate information concerning the securities of Gold Hills Mining Ltd. (CIK No. 1129018), a revoked Nevada corporation with its principal place of business listed as New York, New York with stock quoted on OTC Link (previously, “Pink Sheets”) operated by OTC Markets Group Inc. (“OTC Link”) under the ticker symbol GHML, because it has not filed any periodic reports since the period ended March 31, 2013. On August 19, 2015, a delinquency letter was sent by the Division of Corporation Finance to Gold Hills Mining Ltd. requesting compliance with its periodic filing obligations, and Gold Hills Mining Ltd. received the delinquency letter on August 21, 2015, but failed to cure its delinquencies.

It appears to the Securities and Exchange Commission that there is a lack of current and accurate information concerning the securities of Massive Dynamics, Inc. (CIK No. 1519534), a revoked Nevada corporation with its principal place of business listed as Rochester, New York with stock quoted on OTC Link under the ticker symbol MSSD, because it has not filed any periodic reports since the period ended June 30, 2013. On August 19, 2015, a delinquency letter was sent by the Division of Corporation Finance to Massive Dynamics, Inc. requesting compliance with its periodic filing obligations, and Massive Dynamics, Inc. received the delinquency letter on August 24, 2015, but failed to cure its delinquencies.

It appears to the Securities and Exchange Commission that there is a lack of current and accurate information concerning the securities of Medisafe 1 Technologies Corp. (CIK No. 1471487), a void Delaware corporation with its principal place of business listed as Jerusalem, Israel with stock quoted on OTC Link under the ticker symbol MFTH, because it has not filed any periodic reports since the period ended June 30, 2013. On August 18, 2015, a delinquency letter was sent by the Division of Corporation Finance to Medisafe 1 Technologies Corp. requesting compliance with its periodic filing obligations, but Medisafe 1 Technologies Corp. did not receive the delinquency letter due to its failure to maintain a valid address on file with the Commission as required by Commission rules (Rule 301 of Regulation S-T, 17 CFR 232.301 and Section 5.4 of EDGAR Filer Manual).

It appears to the Securities and Exchange Commission that there is a lack of current and accurate information concerning the securities of MDU Communications International, Inc. (CIK No. 1086139), a void Delaware corporation with its principal place of business listed as Totowa, New Jersey with stock quoted on OTC Link under the ticker symbol MDTV, because it has not filed any periodic reports since the period ended June 30, 2013. On August 19, 2015, a delinquency letter was sent by the Division of Corporation Finance to MDU Communications International, Inc. requesting compliance with its periodic filing obligations, but MDU Communications International, Inc. did not receive the delinquency letter due to its failure to maintain a valid address on file with the Commission as required by Commission rules (Rule 301 of Regulation S-T, 17 CFR 232.301 and Section 5.4 of EDGAR Filer Manual).

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 21, 2016, through 11:59 p.m. EDT on May 4, 2016.

By the Commission.
Jill M. Peterson,
Assistant Secretary.

[FR Doc. 2016-09645 Filed 4-21-16; 11:15 am]

BILLING CODE 8011-01-P